DEPARTMENT OF HEALTH AND HUMAN SERVICES

Health Resources and Services Administration

Agency Information Collection Activities: Proposed Collection; Comment Request

In compliance with the requirement for opportunity for public comment on proposed data collection projects (section 3506(c) (2) of Title 44, United States Code, as amended by the Paperwork Reduction Act of 1995, Public Law 104-13), the Health Resources and Services Administration (HRSA) will publish periodic summaries of proposed projects being developed for submission to OMB under the Paperwork Reduction Act of 1995. To request more information on the proposed project or to obtain a copy of the data collection plans, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques of other forms of information technology.

Proposed Project: The Nursing Education Loan Repayment Program Application (OMB No. 0915-0140)—Extension

This is a request for extension of the application form for the Nursing Education Loan Repayment Program (NELRP). The NELRP was originally authorized by 42 USC 297b(h) (section 836 (h) of the Public Health Service Act) as amended by Public Law 100-607, November 4, 1988. The NELRP is currently authorized by 42 USC 297(n) (section 846 of the Public Health Service Act) as amended by Public Law 102-408, October 13, 1992.

Under the NELRP, registered nurses are offered the opportunity to enter into a contractual agreement with the Secretary, under which the Public Health Service agrees to repay the nurses' indebtedness for nursing education. In exchange, the nurses agree to serve for a specified period of time in certain types of health facilities identified in the statute.

Nurse educational loan repayment contracts will be approved by the Secretary for eligible nurses who have incurred previous monetary indebtedness by accepting a loan for nursing education costs from a bank, credit union, savings and loan association, Government agency or program, school, or other lender that meets NELRP criteria.

Approval is requested for the application form. The application form requires information from two types of respondents:

a. Applicants must provide information on the proposed service site and on all nursing education loans for which reimbursement is requested, and

b. For those applicants accepted into the NELRP, lenders must provide information on loan status for all loans accepted for repayment.

Estimates of Annualized Hour Burden: The application form is not being changed, therefore it will not have significant impact on the time required to complete the form. Burden estimates are as follows:

Form/regulatory requirement | Number of respondents | Responses per respondents | Hours per response | Total burden hours
NELRP Application | 1,000 | 1 | 1.5 | 1,500
Loan Verification Form | ¹ 200 | 1 | 2.5 | 500
Total | 1,200 |  |  | 2.000
¹ The remainder of the loans are verified through credit reports.

Send comments to Susan G. Queen, Ph.D., HRSA Reports Clearance Officer, Room 14-33 Parklawn Building, 5600 Fishers Lane, Rockville, Maryland 20857. Written comments should be received within 60 days of this notice.

Dated: August 11, 2000.
James J. Corrigan,
Associate Administrator for Management and Program Support.

[FR Doc. 00-21059 Filed 8-17-00; 8:45 am]

BILLING CODE 4160-15-P